DEPARTMENT OF ENERGY

Federal Energy Regulatory Commission

Combined Notice of Filings #1

Take notice that the Commission received the following exempt wholesale generator filings:

Docket Numbers: EG24-192-000.

Applicants: Capon Bridge Solar, LLC.

Description: Capon Bridge Solar, LLC submits Notice of Self-Certification of Exempt Wholesale Generator Status.

Filed Date: 5/30/24.

Accession Number: 20240530-5167.

Comment Date: 5 p.m. ET 6/20/24.

Take notice that the Commission received the following Complaints and Compliance filings in EL Dockets:

Docket Numbers: EL24-112-000.

Applicants: NextEra Energy Resources, LLC.

Description: Petition for Declaratory Order of NextEra Energy Resources, LLC.

Filed Date: 5/17/24.

Accession Number: 20240517-5196.

Comment Date: 5 p.m. ET 6/17/24.

Take notice that the Commission received the following electric rate filings:

Docket Numbers: ER12-1911-007; ER12-1912-007; ER12-1913-007; ER12-1915-007; ER12-1916-007; ER12-1917-007; ER14-41-011; ER14-42-011; ER15-1026-004; ER16-498-010; ER16-499-010; ER16-500-010; ER16-2289-005; ER16-2277-004; ER16-2393-002; ER17-227-002; ER18-1174-005; ER20-2448-006; ER21-133-006; ER21-632-002; ER21-736-007; ER21-1962-007; ER21-2634-005; ER22-7-001; ER22-9-002; ER22-11-002; ER22-12-001; ER22-13-002; ER22-14-002; ER22-15-002; ER22-281-002; ER22-286-002; ER22-288-002; ER22-289-002; ER22-2784-004; ER23-31-002; ER23-2967-001.

Applicants: Toms River Net Meter Solar, LLC, Pattersonville Solar Facility LLC, MN8 Energy Marketing LLC, Dry Bridge Solar 4, LLC, Dry Bridge Solar 3, LLC, Dry Bridge Solar 2, LLC, Dry Bridge Solar 1, LLC, ELP Stillwater Solar, LLC, Darby Solar, LLC, Regan Solar, LLC, Puckett Solar, LLC, Janis Solar, LLC, Grissom Solar, LLC, Branscomb Solar, LLC, Solar Star Lost Hills, LLC, Mulberry BESS LLC, RE Slate 1 LLC, Toms River Merchant Solar, LLC, HDSI, LLC, American Kings Solar, LLC, Imperial Valley Solar 2, LLC, Innovative Solar 47, LLC, Innovative Solar 31, LLC, Solar Star California XLI, LLC, Golden Fields Solar I, LLC, RE Mustang 4 LLC, RE Mustang 3 LLC, RE Mustang LLC, Utah Red Hills Renewable Park, LLC, RE Rosamond Two LLC, RE Rosamond One LLC, RE McKenzie 6 LLC, RE McKenzie 5 LLC, RE McKenzie 4 LLC, RE McKenzie 3 LLC, RE McKenzie 2 LLC, RE McKenzie 1 LLC.

Description: Notice of change in status of American Kings Solar, LLC, et al.

Filed Date: 5/29/24.

Accession Number: 20240529-5254.

Comment Date: 5 p.m. ET 6/20/24.

Docket Numbers: ER17-1263-001.

Applicants: CWP Energy, Inc.

Description: Notice of Change in Status of CWP Energy, Inc.

Filed Date: 8/28/23.

Accession Number: 20230828-5436.

Comment Date: 5 p.m. ET 6/13/24.

Docket Numbers: ER22-2584-000.

Applicants: Greeley Energy Facility, LLC.

Description: Report Filing: Greeley Energy Facility LLC submits tariff filing per: Response to Deficiency Letter to be effective N/A.

Filed Date: 5/15/24.

Accession Number: 20240515-5085.

Comment Date: 5 p.m. ET 6/5/24.

Docket Numbers: ER24-1676-000.

Applicants: MEMS Industrial Supply LLC.

Description: Amendment to April 1, 2024, MEMS Industrial Supply LLC tariff filing.

Filed Date: 4/16/24.

Accession Number: 20240416-5287.

Comment Date: 5 p.m. ET 4/30/24.

Docket Numbers: ER24-2135-000.

Applicants: American Transmission Systems, Incorporated, PJM Interconnection, L.L.C.

Description: § 205(d) Rate Filing: American Transmission Systems, Incorporated submits tariff filing per 35.13(a)(2)(iii: ATSI submits Revised Interconnection Agreement, Service Agreement No. 3992 to be effective 7/29/2024.

Filed Date: 5/30/24.

Accession Number: 20240530-5036.

Comment Date: 5 p.m. ET 6/20/24.

Docket Numbers: ER24-2136-000.

Applicants: Southwest Power Pool, Inc.

Description: § 205(d) Rate Filing: 3215R15 People's Electric Cooperative NITSA NOA to be effective 8/1/2024.

Filed Date: 5/30/24.

Accession Number: 20240530-5041.

Comment Date: 5 p.m. ET 6/20/24.

Docket Numbers: ER24-2138-000.

Applicants: Tri-State Generation and Transmission Association, Inc.

Description: § 205(d) Rate Filing: Amendment to Rate Schedule FERC No. 75 to be effective 5/1/2024.

Filed Date: 5/30/24.

Accession Number: 20240530-5162.

Comment Date: 5 p.m. ET 6/20/24.

Docket Numbers: ER24-2139-000.

Applicants: Capon Bridge Solar, LLC.

Description: Baseline eTariff Filing: Market-Based Rate Application and Requests for Waivers and Blanket Approvals to be effective 5/31/2024.

Filed Date: 5/30/24.

Accession Number: 20240530-5177.

Comment Date: 5 p.m. ET 6/20/24.

Docket Numbers: ER24-2140-000.

Applicants: Tri-State Generation and Transmission Association, Inc.

Description: § 205(d) Rate Filing: Amendment—Replacement of Rate Schedule No. 365 with Service Agreement No. 922 to be effective 5/8/2024.

Filed Date: 5/30/24.

Accession Number: 20240530-5186.

Comment Date: 5 p.m. ET 6/20/24.

Docket Numbers: ER24-2141-000.

Applicants: Southwest Power Pool, Inc.

Description: § 205(d) Rate Filing: 4193R1 City of Paris NITSA NOA to be effective 8/1/2024.

Filed Date: 5/30/24.

Accession Number: 20240530-5198.

Comment Date: 5 p.m. ET 6/20/24.

Docket Numbers: ER24-2142-000.

Applicants: Public Service Company of Colorado.

Description: § 205(d) Rate Filing: 2024-05-30 UPI-NOA-816-0.0.0 to be effective 5/1/2024.

Filed Date: 5/30/24.

Accession Number: 20240530-5201.

Comment Date: 5 p.m. ET 6/20/24.

Docket Numbers: ER24-2143-000.

Applicants: American Transmission Systems, Incorporated, PJM Interconnection, L.L.C.

Description: § 205(d) Rate Filing: American Transmission Systems, Incorporated submits tariff filing per 35.13(a)(2)(iii: ATSI submits one Construction Agreement, SA No. 6938 to be effective 7/29/2024.

Filed Date: 5/30/24.

Accession Number: 20240530-5206.

Comment Date: 5 p.m. ET 6/20/24.

Docket Numbers: ER24-2144-000.

Applicants: PPL Electric Utilities Corporation, PJM Interconnection, L.L.C.

Description: § 205(d) Rate Filing: PPL Electric Utilities Corporation submits tariff filing per 35.13(a)(2)(iii: PPL Request for Order Authorizing Abandoned Plant Incentive to be effective 7/30/2024.

Filed Date: 5/30/24.

Accession Number: 20240530-5244.

Comment Date: 5 p.m. ET 6/20/24.

Docket Numbers: ER24-2145-000.

Applicants: Tri-State Generation and Transmission Association, Inc.

Description: Tariff Amendment: Notice of Cancellation of Rate Schedule FERC No. 365 to be effective 5/8/2024.

Filed Date: 5/30/24.

Accession Number: 20240530-5253.

Comment Date: 5 p.m. ET 6/20/24.

Docket Numbers: ER24-2146-000.

Applicants: Public Service Company of Colorado.

Description: § 205(d) Rate Filing: 2024-05-30 WAPA-Int-Ent-O&M-367-Exh G-0.1.0—Concurrence to be effective 4/30/2024.

Filed Date: 5/30/24.

Accession Number: 20240530-5337.

Comment Date: 5 p.m. ET 6/20/24.

Docket Numbers: ER24-2147-000.

Applicants: El Paso Electric Company.

Description: § 205(d) Rate Filing: El Paso Electric Reserve Sharing Energy Tariff (NWPP Agreement) to be effective 5/31/2024.

Filed Date: 5/30/24.

Accession Number: 20240530-5341.

Comment Date: 5 p.m. ET 6/20/24.

Take notice that the Commission received the following electric reliability filings:

Docket Numbers: RR24-3-000.

Applicants: North American Electric Reliability Corporation.

Description: North American Electric Reliability Corporation's Report of Comparisons of Budgeted to Actual Costs for 2023 for NERC and the Regional Entities.

Filed Date: 5/30/24.

Accession Number: 20240530-5287.

Comment Date: 5 p.m. ET 6/20/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 30, 2024.
Debbie-Anne A. Reese,
Acting Secretary.

[FR Doc. 2024-12329 Filed 6-4-24; 8:45 am]

BILLING CODE 6717-01-P